DEPARTMENT OF LABOR

Occupational Safety and Health Administration

[Docket No. ICR-1218-0244(2002)]

OSHA Strategic Partnership Program for Worker Safety and Health

AGENCY: Occupational Safety and Health Administration, Labor.

ACTION: Request for comment.

SUMMARY: The Occupational Safety and Health Administration (OSHA) requests comments concerning the proposed extension of information-collection requirements specified in the OSHA Strategic Partnership Program for Worker Safety and Health (OSPP).

DATES: Comments must be submitted by the following dates:

Hard copy: Your comments must be submitted (postmarked or sent) by November 4, 2002.

Facsimile and electronic transmission: Your comments must be sent by November 4, 2002.

(Please see the Supplementary Information below for additional information on submitting comments.)

ADDRESSES:

I. Submission of Comments

Regular mail, express delivery, hand-delivery, and messenger service: Submit your comments and attachments to the OSHA Docket Office, Docket No. ICR-1218-0244(2002), Room N-2625, U.S. Department of Labor, 200 Constitution Avenue, NW., Washington, DC 20210. OSHA Docket Office and Department of Labor hours of operation are 8:15 a.m. to 4:45p.m., EST.

Facsimile: If your comments, including any attachments, are 10 pages or fewer, you may fax them to the OSHA Docket Office at (202) 693-1648. You must include the docket number of this document, Docket No. ICR-1218-0244(2002), in your comments.

Electronic: You may submit comments, but not attachments, through the Internet at http://ecomments.osha.gov/.

(Please see the Supplementary Information below for additional information on submitting comments.)

II. Obtaining Copies of Supporting Statement for the Information Collection

The Supporting Statement for the Information Collection is available for downloading from OSHA's Web site at http://www.osha.gov. The supporting statement is available for inspection and copying in the OSHA Docket Office, at the address listed above. A printed copy of the supporting statement can be obtained by contacting Cathy Oliver at (202) 693-2213 or Todd Owen at (202) 693-2444.

FOR FURTHER INFORMATION CONTACT: Cathy Oliver, Directorate of Cooperative and State Programs, Occupational Safety and Health Administration, U.S. Department of Labor, Room N3700, 200 Constitution Avenue, NW., Washington, DC 20210, (202) 693-2208.

SUPPLEMENTARY INFORMATION:

I. Submission of Comments on This Notice and Internet Access to Comments and Submissions

You may submit comments in response to this document by (1) hard copy, (2) FAX transmission (facsimile), or (3) electronically through the OSHA webpage. Please note that you cannot attach materials such as studies or journal articles to electronic comments. If you have additional materials, you must submit three copies of them to the OSHA Docket Office at the address above. The additional materials must clearly identify your electronic comments by name, date, subject and docket number so we can attach them to your comments. Because of security-related problems there may be a significant delay in the receipt of comments by regular mail. Please contact the OSHA Docket Office at (202) 693-2350 for information about security procedures concerning the delivery of materials by express delivery, hand delivery and messenger service.

II. Background

The Department of Labor, as part of its continuing effort to reduce paperwork and respondent burdens, conducts a pre-clearance consultation program to provide the public with an opportunity to comment on proposed and continuing information collection requirements in accordance with the Paperwork Reduction Act of 1995 (PRA-95) (44 U.S.C. 3506(c)(2)(A)). OSHA will be requesting approval from the Office of Management and Budget (OMB) for certain information collection requirements contained in the Strategic Partnerships for Worker Safety and Health. This notice initiates the process for OSHA to request OMB approval. The need to collect information in order to gauge program success is an integral part of OSHA's strategic planning processes, and partnerships, like other agency activities, are required to regularly provide information to the agency. The agency uses this information to assess the effectiveness of its programs, identify needed improvements, and ensure that its resources are being used to good and effective purpose.

III. Special Issues for Comment

OSHA has a particular interest in comments on the following issues:

• Whether the proposed collection of information is necessary for the proper performance of the Agency's functions, including whether the information will have practical utility;

• The accuracy of the Agency's estimate of the burden of the proposed collection of information, including the validity of the methodology and assumptions used; and

• The quality, utility, and clarity of the information on those who are to respond, including the use of appropriate automated, electronic, mechanical, or other technological collection techniques or other forms of information technology, e.g., permitting electronic submissions of responses.

IV. Proposed Actions

OSHA proposed to extend OMB's approval of the collection of information requirements specified in 5 CFR 1320.8(d). OSHA will summarize the comments submitted in response to this notice, and will include this summary in its request to OMB to extend the approval of the information-collection requirements for the OSPP. The burden hour increase is a result of the increasing number of partnerships.

Type of Review: Extension of a currently approved information-collection requirement.

Title: OSHA Strategic Partnership Program for Worker Safety and Health (OSPP).

OMB Number: 1218-0244.

Affected Public: Business or other for-profit; not-for-profit institutions; Federal government, State, local or tribal governments.

Number of Respondents: 4410.

Frequency: Annually.

Average time per Response: 11 hours.

Estimating Total Burden Hours: 49,194.

Authority and Signature

This document was prepared under the direction of John L. Henshaw, Assistant Secretary of Labor for Occupational Safety and Health, 200 Constitution Avenue, NW., Washington, DC 20210.

This action is taken pursuant to the Paperwork Reduction Act of 1995 (44 U.S.C. 3506(c)(2)(A)).

Signed at Washington, DC, this 30th day of August, 2002.
John L. Henshaw,
Assistant Secretary of Labor.

[FR Doc. 02-22615 Filed 9-4-02; 8:45 am]

BILLING CODE 4510-26-M